DEPARTMENT OF TRANSPORTATION

Federal Railroad Administration

[Docket Number FRA-2019-0090]

Petition for Extension of Waiver of Compliance

Under part 211 of title 49 Code of Federal Regulations (CFR), this document provides the public notice that by letters received August 16, 2024, and August 30, 2024, Norfolk Southern Corporation's operating subsidiary, Norfolk Southern Railway Company (NS), petitioned the Federal Railroad Administration (FRA) for an extension of a waiver of compliance from certain provisions of the Federal railroad safety regulations contained at 49 CFR part 232 (Brake System Safety Standards for Freight and Other Non-Passenger Trains and Equipment; End-of-Train Devices). The relevant Docket Number is FRA-2019-0090.

Specifically, NS requests to extend the existing waiver, which provides NS certain relief from the requirements of 49 CFR 232.305(b)(2), Single car air brake tests, to “permit the replacement of FRA condemnable and other non-FRA condemnable wheelsets on railcars as part of an in-train wheelset replacement program, without the need to also perform the [single car air brake tests (SCABTs)]” as required. The program is only operated on two designated tracks at the NS railyard in Bluefield, West Virginia.

The existing wheelset replacement program aims to “proactively identify and replace wheelsets,” which NS stated, “reduces the number of switching events that would otherwise be required to affect the repairs, reducing the risk of injury and derailment.” NS added that the program permits NS “to replace a greater percentage of wheelsets than currently replaced using traditional techniques.”

A copy of the petition, as well as any written communications concerning the petition, is available for review online at www.regulations.gov.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted at www.regulations.gov. Follow the online instructions for submitting comments.

Communications received by December 9, 2024 will be considered by FRA before final action is taken. Comments received after that date will be considered if practicable.

Anyone can search the electronic form of any written communications and comments received into any of the Department of Transportation's (DOT) dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2024-23335 Filed 10-8-24; 8:45 am]

BILLING CODE 4910-06-P